RAILROAD RETIREMENT BOARD

Proposed Collection; Comment Request

SUMMARY: In accordance with the requirement of Section 3506 (c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and Purpose of Information Collection: Railroad Service and Compensation Reports; OMB 3220-0008. Under Section 9 of the Railroad Retirement Act (RRA), railroad employers are required to submit reports of their employees' service and compensation. Also, under Section 9 of the RRA and Section 6 of the Railroad Unemployment Insurance Act (RUIA) the Railroad Retirement Board (RRB) maintains, for each railroad employee, a record of the compensation paid by all railroad employers for whom the employee worked after 1936. This record, which is used by the RRB to determine eligibility for, and amount of, benefits due under the laws it administers, is conclusive as to the amount of compensation paid to an employee during such period(s) covered by the report(s) of the compensation by the employee's railroad employer(s), except in cases when an employee files a protest pertaining to his or her reported compensation within the statue of limitations cited in Section 6 of the RUIA and Section 9 of the RRA.

To enable the RRB to establish and maintain the record of compensation, employers are required to file with the RRB, in such manner and form and at such times as the RRB prescribes, reports of compensation of employees. The information reporting requirements are prescribed in 20 CFR 209.6 through 209.9 and 20 CFR 345.110. The RRB utilizes Form BA-3a, Annual Report of Compensation, Form BA-4, Report of Creditable Compensation Adjustments and Form BA-4 (Internet), Report of Creditable Compensation Adjustments, to secure the required information from railroad employers. Form BA-3a provides the RRB with information regarding annual creditable service and compensation for each individual who worked in the railroad industry in a given year. Forms BA-4 and BA-4 (Internet) provide for the adjustment of any previously submitted reports and also the opportunity to provide any service and compensation that had been previously omitted. Form BA-4 (Internet) collects essentially the same information as Form BA-4, but it consists of a series of screens which collects the necessary information and provides for the required notices and certifications. Employers also have the option of submitting the reports on the aforementioned forms, or, in like format by magnetic tape, tape cartridges, PC diskettes and CD-ROM as outlined in the RRB's Reporting Instructions to Employers. Submission of the creditable compensation reports is mandatory. One response is required of each respondent. No changes are proposed to Forms BA-3a, BA-4 and BA-4 (Internet).

Form BA-12, System Access Application, identifies employees who are allowed to use the internet to submit reporting forms to the RRB. This form also determines what degree of access (view only, data entry/modification or approval/submission) is appropriate for that employee. Form BA-12, an OMB approved form (3220-0199), is being incorporated into this information collection at the request of OMB. Completion of Form BA-12 is voluntary and is necessary only if an employer wants to submit data and reports via the internet. Minor editorial changes are being proposed to Form BA-12.

The completion time for Form BA-3a is estimated at between 33.3 hours per response for electronic submissions to 85 hours for manual paper responses. The completion time for Form BA-4 is estimated at 60 minutes per response. The completion time for Form BA-4 (Internet) is 15 minutes per response. The completion time for Form BA-12 is estimated at between 10 and 20 minutes. The RRB estimates that approximately 579 Form BA-3a's, 211 Form BA-4's, 1,000 Form BA-4 (Internet) and 350 Form BA-12's are completed annually.

Additional Information or Comments: To request more information or to obtain a copy of the information collection justification, forms, and/or supporting material, please call the RRB Clearance Officer at (312) 751-3363 or send an e-mail request to Charles.Mierzwa@RRB.GOV. Comments regarding the information collection should be addressed to Ronald J. Hodapp, Railroad Retirement Board, 844 North Rush Street, Chicago, Illinois 60611-2092 or send an e-mail to Ronald.Hodapp@RRB.GOV. Written comments should be received within 60 days of this notice.

Charles Mierzwa,
Clearance Officer.

[FR Doc. 04-22297 Filed 10-4-04; 8:45 am]

BILLING CODE 7905-01-P